DEPARTMENT OF TRANSPORTATION

Federal Aviation Administration

14 CFR Part 39

[Docket No. FAA-2007-28911; Directorate Identifier 2007-NM-002-AD; Amendment 39-15150; AD 2007-16-11]

RIN 2120-AA64

Airworthiness Directives; Fokker Model F27 Mark 050 Airplanes Equipped With Dowty Type R.352 or R.410 Series Propellers

AGENCY: Federal Aviation Administration (FAA), Department of Transportation (DOT).

ACTION: Final rule; request for comments.

SUMMARY: The FAA is adopting a new airworthiness directive (AD) for certain Fokker Model F27 Mark 050 airplanes equipped with Dowty Type R.352 or R.410 series propellers. This AD requires checking the maintenance records to determine whether Minnesota Mining and Manufacture Co. (3M) 1300L adhesive was used to attach the de-icer assembly overshoes (boots) to the propeller blades, repetitive inspections of affected boots, and replacing boots attached with defective adhesive. This AD results from three events of propeller blade de-icer assembly boots debonding and detaching during flight. This condition was caused by using 3M 1300L adhesive to attach the boot to the propeller blade. We are issuing this AD to detect and correct boots attached with defective adhesive, which could result in debonding and separation of a boot from the airplane, consequent reduced structural integrity of the airplane, and possible injury to passengers and crew.

DATES: This AD becomes effective August 24, 2007.

The Director of the Federal Register approved the incorporation by reference of a certain publication listed in the AD as of August 24, 2007.

We must receive comments on this AD by September 10, 2007.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: U.S. Department of Transportation, Docket Operations, M-30, West Building Ground Floor, Room W12-140, 1200 New Jersey Avenue, SE., Washington, DC 20590.

• Fax: (202) 493-2251.

• Hand Delivery: Room W12-140 on the ground floor of the West Building, 1200 New Jersey Avenue, SE., Washington, DC, between 9 a.m. and 5 p.m., Monday through Friday, except Federal holidays.

Contact Fokker Services B.V., Technical Services Dept., P.O. Box 231, 2150 AE Nieuw-Vennep, the Netherlands, for service information identified in this AD.

FOR FURTHER INFORMATION CONTACT: Tom Rodriguez, Aerospace Engineer, International Branch, ANM-116, FAA, Transport Airplane Directorate, 1601 Lind Avenue SW., Renton, Washington 98055-4056; telephone (425) 227-1137; fax (425) 227-1149.

SUPPLEMENTARY INFORMATION:

Discussion

The Civil Aviation Authority-The Netherlands (CAA-NL), which is the airworthiness authority for the Netherlands, notified us that an unsafe condition may exist on certain Fokker Model F27 Mark 050 airplanes equipped with Dowty Type R.352 or R.410 series propellers. The CAA-NL advises that there have been three events of propeller blade de-icer assembly boots debonding and detaching during flight. In two of the incidents, the boot impacted the fuselage causing considerable damage, but did not penetrate into the fuselage. In the third incident the boot hit a passenger cabin window shattering the pane and penetrating into the fuselage, and subsequently injuring two passengers. Investigation revealed that all of the affected boots had been attached using Minnesota Mining and Manufacture Co. (3M) 1300L adhesive. This condition, if not corrected, could result in debonding and separation of a boot from the airplane, consequent reduced structural integrity of the airplane, and possible injury to passengers and crew.

Relevant Service Information

Dowty has issued Service Bulletin F50-61-158, including Appendix 1, dated September 30, 2005. The service bulletin describes procedures for checking the maintenance records to determine whether 3M 1300L adhesive has been applied to attach the de-icer assembly overshoes (boots) to the propeller blades, repetitive inspections of affected boots, and replacing boots attached with defective adhesive. Accomplishing the actions specified in the service information is intended to adequately address the unsafe condition. The CAA-NL reviewed the service information and issued Dutch airworthiness directive NL-2005-016, dated December 16, 2005, to ensure the continued airworthiness of these airplanes in the Netherlands.

FAA's Determination and Requirements of This AD

These airplanes are manufactured in the Netherlands and are type certificated for operation in the United States under the provisions of section 21.29 of the Federal Aviation Regulations (14 CFR 21.29) and the applicable bilateral airworthiness agreement. Pursuant to this bilateral airworthiness agreement, the CAA-NL has kept the FAA informed of the situation described above. We have examined the CAA-NL's findings, evaluated all pertinent information, and determined that we need to issue an AD for products of this type design that are certificated for operation in the United States.

Therefore, we are issuing this AD to detect and correct boots with defective adhesive, which could result in separation of a boot from the airplane, possible injury to passengers and crew, and consequent reduced structural integrity of the airplane. This AD requires accomplishing the actions specified in the service information described previously.

Costs of Compliance

None of the airplanes affected by this action are on the U.S. Register. All airplanes affected by this AD are currently operated by non-U.S. operators under foreign registry; therefore, they are not directly affected by this AD action. However, we consider this AD necessary to ensure that the unsafe condition is addressed if any affected airplane is imported and placed on the U.S. Register in the future.

If an affected airplane is imported and placed on the U.S. Register in the future, the required inspections would take about 1 work hour per airplane, at an average labor rate of $80 per work hour. Based on these figures, the estimated cost of the AD would be $80 per airplane, per inspection cycle.

FAA's Determination of the Effective Date

No airplane affected by this AD is currently on the U.S. Register. Therefore, providing notice and opportunity for public comment is unnecessary before this AD is issued, and this AD may be made effective in less than 30 days after it is published in the Federal Register.

Comments Invited

This AD is a final rule that involves requirements that affect flight safety and was not preceded by notice and an opportunity for public comment; however, we invite you to submit any relevant written data, views, or arguments regarding this AD. Send your comments to an address listed in the ADDRESSES section. Include “Docket No. FAA-2007-28911; Directorate Identifier 2007-NM-002-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Operations office between 9 a.m. and 5 p.m., Monday through Friday, except Federal holidays. The Docket Operations office (telephone (800) 647-5527) is located on the ground floor of the West Building at the street address stated in the ADDRESSES section. Comments will be available in the AD docket shortly after the Docket Management System receives them.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-16-11 Fokker Services B.V.: Amendment 39-15150. Docket No. FAA-2007-28911; Directorate Identifier 2007-NM-002-AD.

Effective Date

(a) This AD becomes effective August 24, 2007.

Affected ADs

(b) None.

Applicability

(c) This AD applies to Fokker Model F27 Mark 050 airplanes, certificated in any category; equipped with Dowty Type R.352 or R.410 series propellers.

Unsafe Condition

(d) This AD results from three events of propeller blade de-icer assembly overshoes (boots) debonding and detaching during flight. This condition was caused by using Minnesota Mining and Manufacture Co. (3M) 1300L adhesive to attach the boots to the propeller blade. We are issuing this AD to detect and correct boots attached with defective adhesive, which could result in debonding and separation of a boot from the airplane, consequent reduced structural integrity of the airplane, and possible injury to passengers and crew.

Compliance

(e) You are responsible for having the actions required by this AD performed within the compliance times specified, unless the actions have already been done.

Identification of Affected Boots/Repetitive Inspections/Replacement

(f) Within 30 days after the effective date of this AD: Check the maintenance records to determine whether 3M 1300L adhesive was used to attach the de-icer assembly boots to the propeller blades.

(1) If 3M 1300L adhesive was not used: No further action is required by this paragraph.

(2) If 3M 1300L adhesive was used, or the type of adhesive cannot be determined: Within 650 flight hours, do a general visual inspection for signs of lifting or bubbling of the adhesive in accordance with the Accomplishment Instructions of Dowty Service Bulletin F50-61-158, including Appendix 1, dated September 30, 2005.

(i) If no signs of lifting or bubbling are found: Repeat the inspection at intervals not to exceed 650 flight hours.

(ii) If any signs of lifting or bubbling are found: Before further flight, replace the affected de-icer assembly boot in accordance with Accomplishment Instructions of the service bulletin.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Parts Installation

(g) As of the effective date of this AD, no person may use 3M 1300L adhesive to attach a boot to the propeller blade, on any airplane.

Alternative Methods of Compliance (AMOCs)

(h)(1) The Manager, International Branch, Transport Airplane Directorate, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Related Information

(i) Dutch airworthiness directive NL-2005-016, dated December 16, 2005, also addresses the subject of this AD.

Material Incorporated by Reference

(j) You must use Dowty Service Bulletin F50-61-158, including Appendix 1, dated September 30, 2005, to perform the actions that are required by this AD, unless the AD specifies otherwise. The Director of the Federal Register approved the incorporation by reference of this document in accordance with 5 U.S.C. 552(a) and 1 CFR part 51. Contact Fokker Services B.V., Technical Services Dept., P.O. Box 231, 2150 AE Nieuw-Vennep, the Netherlands, for a copy of this service information. You may review copies at the FAA, Transport Airplane Directorate, 1601 Lind Avenue SW., Renton, Washington; or at the National Archives and Records Administration (NARA). For information on the availability of this material at NARA, call 202-741-6030, or go to: http://www.archives.gov/federal-register/cfr/ibr-locations.html.

Issued in Renton, Washington, on July 30, 2007.
Ali Bahrami,
Manager, Transport Airplane Directorate, Aircraft Certification Service.

10

[FR Doc. E7-15417 Filed 8-8-07; 8:45 am]

BILLING CODE 4910-13-P